DEPARTMENT OF HOMELAND SECURITY

Federal Emergency Management Agency

[Docket ID FEMA-2023-0002; Internal Agency Docket No. FEMA-B-2364]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before November 30, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2364, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

Community | Community map repository address
Effingham County, Illinois and Incorporated Areas
Project: 16-05-2969S Preliminary Date: July 21, 2022
City of Altamont | City Hall, 202 North 2nd Street, Altamont, IL 62411.
City of Effingham | City Hall, 201 East Jefferson Avenue, Effingham, IL 62401.
Unincorporated Areas of Effingham County | Effingham County Courthouse, 101 North 4th Street, Suite 304, Effingham, IL 62401.
Village of Dieterich | Village Hall, 103 West Section Street, Dieterich, IL 62424.
Village of Teutopolis | Village Hall, 106 West Main Street, Teutopolis, IL 62467.
Village of Watson | Village Hall, 104 North Monroe Street, Watson, IL 62473.
Itasca County, Minnesota and Incorporated Areas
Project: 17-05-1527S Preliminary Date: November 20, 2020 and July 30, 2021
City of Bigfork | City Hall, 200 Main Avenue, Bigfork, MN 56628.
City of Bovey | City Hall, 402 2nd Street, Bovey, MN 55709.
City of Cohasset | City Hall, 305 Northwest First Avenue, Cohasset, MN 55721.
City of Coleraine | City Hall, 302 Roosevelt Avenue, Coleraine, MN 55722.
City of Deer River | City Hall, 60 2nd Street SE, Deer River, MN 56636.
City of Grand Rapids | City Hall, 420 North Pokegama Avenue, Grand Rapids, MN 55744.
City of Keewatin | City Hall, 127 West Third Avenue, Keewatin, MN 55753.
City of LaPrairie | LaPrairie City Hall, 15 Park Drive, Grand Rapids, MN 55744.
City of Taconite | Community Building, 26 Haynes Street, Taconite, MN 55786.
City of Warba | City Hall, 130 South 2nd Avenue, Warba, MN 55793.
City of Zemple | Zemple City Hall, 606 County Road 139, Deer River, MN 56636.
Unincorporated Areas of Itasca County | Itasca County Courthouse, Department of Environmental Services, 123 Northeast 4th Street, Grand Rapids, MN 55744.
Leech Lake Band of Ojibwe | Leech Lake Band of Ojibwe Tribal Office, 190 Sailstar Drive NW, Cass Lake, MN 56633.
Hamilton County, Ohio and Incorporated Areas
Project: 14-05-4456S Preliminary Date: February 03, 2023
City of Forest Park | City Hall, 1201 West Kemper Road, Forest Park, OH 45240.
Unincorporated Areas of Hamilton County | Hamilton County Department of Planning and Development, 138 East Court Street, Room 603, Cincinnati, OH 45202.
Village of Cleves | Administration Offices, 92 Cleves Avenue, Cleves, OH 45002.

[FR Doc. 2023-18973 Filed 8-31-23; 8:45 am]

BILLING CODE 9110-12-P